DEPARTMENT OF THE TREASURY

Bureau of Alcohol, Tobacco and Firearms

27 CFR Part 4

[Notice No. 953]

RIN 1512—AC63

Amelioration of Fruit and Agricultural Wines; Technical Amendments (2001R-197P)

AGENCY: Bureau of Alcohol, Tobacco and Firearms (ATF), Treasury.

ACTION: Notice of proposed rulemaking.

SUMMARY: The Bureau of Alcohol, Tobacco and Firearms proposes to correct an error in the wine labeling regulations regarding the amelioration of fruit (non-grape) and agricultural wines. The Bureau is also making a number of technical corrections to the wine labeling regulations.

DATES: Written comments must be received by December 2, 2002.

ADDRESSES: Send written comments to: Chief, Regulations Division, Bureau of Alcohol, Tobacco and Firearms, P.O. Box 50221, Washington, DC 20091-0221 (Attn: Notice No. 953). See the “Public Participation” section of this notice for alternative means of commenting.

Copies of the proposed regulation, background materials, and any written comments received will be available for public inspection during normal business hours at the ATF Reference Library, Room 6480, 650 Massachusetts Avenue, NW., Washington, DC 20226.

FOR FURTHER INFORMATION CONTACT: Jennifer Berry, Bureau of Alcohol, Tobacco and Firearms, Regulations Division, 111 W. Huron Street, Room 219, Buffalo, NY 14202-2301; telephone 716-434-8039.

SUPPLEMENTARY INFORMATION:

Background

The Bureau of Alcohol, Tobacco and Firearms administers regulations published in chapter I of title 27 CFR. In a recent review of part 4 of this chapter, Labeling and Advertising of Wine, ATF noted an error at § 4.22(b)(5) regarding the amelioration of fruit (non-grape) and agricultural wines. We propose to correct this error, and make several other technical amendments to the regulations in part 4.

Amelioration Error

The regulations at § 4.22(b)(5) state that fruit (non-grape) and agricultural wines may be treated with sugar or water in excess of the quantities prescribed for their standards of identity without ATF viewing such treatment as an alteration of class and type, if, among other conditions, “the content of natural acid is not less than 7.5 parts per thousand.” [Italics added.] This limitation of 7.5 parts per thousand is incorrect. Pursuant to 26 U.S.C. 5383 and 5384, the correct minimum acid level should be 7.69 parts per thousand. This level is correctly stated in § 24.178(b)(3) as 7.69 grams per liter. “Grams per liter” is equivalent to “parts per thousand.” In order to make these regulations accurate and consistent, we are amending the minimum acid limitation in § 4.22(b)(5) to 7.69 grams per liter.

Technical Amendments

ATF has identified a typographical error at § 4.21(h)(2), the standard of identity for imitation and substandard or other than standard wine. The phrase “other than standard wine” has been omitted from this section. The corrected regulation will read as follows:

(2) “Substandard wine” or “other than standard wine” shall bear as a part of its designation the words “substandard” or “other than standard,” * * *. [Addition in italics.] We have also identified two technical errors at § 4.30(a). Both the first and second sentences of this section use the word “article” to refer to regulatory subparts. “Article” was the term used for subparts when the wine labeling regulations were written in 1935. Later revisions replaced “article” with “subpart,” but these two instances were overlooked. We propose to correct this oversight.

We also propose to remove three obsolete sections from part 4. All three have been replaced with newer sections, and their requirements have been obsolete for years.

• § 4.25, Appellation of origin, obsolete since January 1, 1983, has been replaced with § 4.25a.

• § 4.35, Name and address, obsolete since July 28, 1994, has been replaced with § 4.35a.

• § 4.72, Standards of fill, obsolete since January 1, 1979, has been replaced with § 4.73.

We are assigning the old numbers to the newer sections to improve the organization of part 4. We believe that removing these obsolete sections will make it much easier for readers to find current requirements.

Public Participation

ATF requests comments from all interested parties on the proposals contained in this notice. We specifically request comments on the clarity of this proposed rule and how it may be made easier to understand.

What Is a Comment?

In order for a submission to be considered a “comment,” it must clearly indicate a position for or against the proposed rule or some part of it or must express neutrality about the proposed rule. Comments that use reasoning, logic, and, if applicable, good science to explain the commentator's position are most persuasive in the formation of a final rule.

To be eligible for consideration, comments must:

• Contain your name and mailing address;

• Reference this notice number;

• Be legible and written in language generally acceptable for public disclosure;

• Contain a legible, written signature if submitted by U.S. mail or fax; and

• Contain your e-mail address if submitted by e-mail.

To ensure that the public is able to access our office equipment, comments submitted by fax must be no more than five pages in length when printed on 8½″ by 11″ paper. Comments submitted by U.S. mail or e-mail may be any length.

How May I Submit Comments?

By U.S. mail: You may send written comments by mail to the address shown above in the ADDRESSES section of this notice.

By fax: You may submit comments by facsimile transmission to 716-434-8041. We will treat faxed transmissions as originals.

By e-mail: You may submit comments by e-mail by sending the comments to nprm@atfhq.atf.treas.gov. We will treat e-mailed transmissions as originals.

By online form: You may also submit comments using the comment form provided with the online copy of the proposed rule on the ATF Web site at http://www.atf.treas.gov/alcohol/rules/index.htm. We will treat comments submitted via the Web site as originals.

How Does ATF Use the Comments?

We will carefully consider all comments that we receive on or before the closing date. We will also carefully consider comments we receive after that date if it is practical to do so. However, we cannot assure consideration of late comments. We will not acknowledge receipt of comments or reply to individual comments. We will summarize and discuss pertinent comments in the preamble to any subsequent notices or to the final rule published as a result of the comments.

May I Review Comments Received?

You may view copies of the comments on this notice of proposed rulemaking by appointment at the ATF Reference Library, Room 6480, 650 Massachusetts Avenue, NW., Washington, DC 20226, telephone 202-927-7890. You may also request copies of comments at 20 cents per page by contacting the ATF librarian at the above address or telephone number.

For the convenience of the public, ATF will post comments received in response to this notice on the ATF Web site. All comments posted on our Web site will show the name of the commentator, but will not show street addresses, telephone numbers, or e-mail addresses. We may also omit voluminous attachments or material that we do not consider suitable for posting. To access online copies of the comments on this rulemaking, visit http://www.atf.treas.gov/ and select “Regulations,” then “Notices of proposed rulemaking (Alcohol)” and then this notice. Click on the “View Comments” button.

Will ATF Keep My Comments Confidential?

ATF cannot recognize any material in comments as confidential. All comments and materials may be disclosed to the public in the ATF Reference Library. We may also post the comment on our Web site. (See “May I Review Comments Received?”) Finally, we may disclose the name of any person who submits a comment and quote from the comment in the preamble to subsequent notices or to the final rule on this subject. If you consider material to be confidential or inappropriate for disclosure to the public, you should not include it in your comments.

Regulatory Analyses and Notices

Does the Paperwork Reduction Act Apply to this Proposed Rule?

The provisions of the Paperwork Reduction Act of 1995, 44 U.S.C. chapter 35, and its implementing regulations, 5 CFR part 1320, do not apply to this notice because no requirement to collect information is proposed.

How Does the Regulatory Flexibility Act Apply to this Proposed Rule?

ATF certifies that this proposed regulation will not have a significant economic impact on a substantial number of small entities. We expect no negative impact on small entities. We are not proposing any new requirements. Accordingly, the Regulatory Flexibility Act does not require a regulatory flexibility analysis.

Is this a Significant Regulatory Action as Defined by Executive Order 12866?

This is not a significant regulatory action as defined by Executive Order 12866. Therefore, the order does not require a regulatory assessment.

Drafting Information

The principal author of this document is Jennifer Berry, Regulations Division, Bureau of Alcohol, Tobacco and Firearms.

List of Subjects in 27 CFR Part 4

Advertising, Consumer protection, Customs duties and inspections, Imports, Labeling, Packaging and containers, Wine.

Authority and Issuance

Accordingly, ATF proposes to amend 27 CFR part 4 as follows:

PART 4—LABELING AND ADVERTISING OF WINE

Paragraph 1. The authority citation for 27 CFR part 4 continues to read as follows:

Authority: 27 U.S.C. 205, unless otherwise noted.

Par. 2. Amend section 4.21 by revising paragraph (h)(2) introductory text to read as follows:

§ 4.21 The standards of identity.

* * * * *

(h) * * *

(2) “Substandard wine” or “other than standard wine” shall bear as a part of its designation the words “substandard” or “other than standard,” and shall include:

* * * * *

Par. 3. Amend section 4.22(b)(5) by removing the phrase “7.5 parts per thousand” and replacing it with the phrase “7.69 grams per liter”.

Par. 4. Remove section 4.25.

Par. 5. Redesignate section 4.25a as section 4.25.

Par. 6. Amend section 4.30(a) by removing the word “article” where it appears and replacing it with the word “subpart”.

Par. 7. Remove section 4.35.

Par. 8. Redesignate section 4.35a as 4.35.

Par. 9. Remove section 4.72.

Par. 10. Redesignate section 4.73 as 4.72.

Signed: July 18, 2002.
Bradley A. Buckles,
Director.
Approved: September 6, 2002.
Timothy E. Skud,
Deputy Assistant Secretary (Regulatory, Tariff & Trade Enforcement).

[FR Doc. 02-24924 Filed 10-2-02; 8:45 am]

BILLING CODE 4810-31-P